DEPARTMENT OF VETERANS AFFAIRS

Announcement for Public Meeting Regarding Health Care Standards for Quality

AGENCY: Department of Veterans Affairs.

ACTION: Notice—announcement of public meeting.

SUMMARY: The Department of Veterans Affairs (VA) is holding a public meeting to seek information from pertinent entities relating to establishing standards for quality regarding hospital care, medical services, and extended care services furnished by the Department, including through non-Department health care providers.

DATES: VA will hold the public meeting on Monday, September 24, 2018, in Arlington, VA. The meeting will start at 10:00 a.m. and conclude on or before 4:00 p.m. Check-in will begin at 9:00 a.m.

ADDRESSES: The meeting will be held at the Veterans Health Administration National Conference Center at 2011 Crystal Drive, Arlington, VA 22202. This facility is accessible to individuals with disabilities.

* In-person attendance will be limited to 60 individuals. Advanced registration for individuals and groups is strongly encouraged (see registration instructions below). For listening purposes only (phone lines will be muted), the meeting will be available via audio which can be accessed by dialing 1 (800) 767-1750, access code 21398.

Please submit all written comments no later than Tuesday, October 16, 2018, by any of the following methods:

• Federal Rulemaking Portal: Go to http://www.regulations.gov. Follow the online instructions for submitting comments.

• Mail, Hand Delivery, Courier: Postmarked no later than October 16, 2018, to: Director of Regulations Management (00REG), Department of Veterans Affairs, 810 Vermont Avenue NW, Room 1063B, Washington, DC 20420. Note: Copies of comments received will be available for public inspection in the Office of Regulation Policy and Management, Room 1063B, between the hours of 8:00 a.m. and 4:30 p.m., Monday through Friday (except Federal Holidays). Please call (202) 461-4902 (this is not a toll-free number) for an appointment.

• Fax: (202) 273-9026, ATTENTION: Director of Regulations Management (00REG). All submissions must include the agency name and docket number. Note that all comments received will be posted and can be viewed online through the Federal Docket Management System at http://www.regulations.gov.

FOR FURTHER INFORMATION CONTACT: Chris Rossio, Health System Specialist, Office of Strategic Integration/Veterans Resource Center, Veterans Health Administration, Department of Veterans Affairs, 810 Vermont Avenue NW, Washington, DC 20420, (858) 245-9493. This is not a toll-free number.

SUPPLEMENTARY INFORMATION: The John S. McCain III, Daniel K. Akaka, and Samuel R. Johnson VA Maintaining Internal Systems and Strengthening Integrated Outside Networks Act of 2018, Public Law 115-182, (the VA MISSION Act) created a new 1703C in title 38, United States Code (U.S.C.), that contains requirements for VA to facilitate the establishment and use of standards for quality. Section 1703C(a)(4) specifically requires VA to consult with all pertinent Federal entities (including the Department of Defense, the Department of Health and Human Services, and the Centers for Medicare & Medicaid Services), entities in the private sector, and other non-governmental entities in establishing standards for quality. In establishing standards for quality, VA is required to consider existing health quality measures that are applied to public and privately sponsored health care systems with the purpose of providing covered Veterans relevant comparative information to make informed decisions regarding their health care. VA requests information from the public regarding the development of these standards for quality, including but not limited to, information on the use of standards for quality and the use and availability of comparative information to assist consumers in making informed decisions regarding their health care. Responses to this notice will support industry research and VA's development of standards for quality regarding care furnished by the Department, including through non-Department health care providers. This public meeting serves as one of the means for VA to consult with these groups and entities. We note that VA has published a request for information elsewhere in this issue of the Federal Register in order to provide these groups and entities an opportunity to provide additional information. The request for information mentioned above can be found in www.regulations.gov under the title of “Notice of Request for Information Regarding Health Care Standards for Quality.” VA will use the statements and testimonials presented at the public meeting to help determine the standards for quality for health care in compliance with the VA MISSION Act. VA will then submit a report, no later than March 3, 2019, as required by section 1703C(a)(5)(A), detailing the standards for quality to the appropriate committees of Congress.

In order to submit a report to Congress detailing the standards for quality by March 3, 2019, VA must expedite this consultation, which will be foundational to the process of determining the standards for quality.

Registration: In-person attendance and participation in this meeting is limited to 60 individuals. VA has the right to refuse registration for in-person attendance once the maximum capacity of 60 individuals has been reached. Individuals interested in attending in-person should request registration by emailing Christopher Rossio at christopher.rossio@va.gov. A confirmation message will be provided within 1-2 business days after a request has been received, and individuals will be notified via email by September 18, 2018, confirming their attendance in-person. Attendees wanting to offer oral comments, testimonies, and/or technical remarks should indicate their intentions upon registration.

Individual registration: VA encourages individual registrations for those not affiliated with or representing a group, association, or organization.

Group registration: Identification of the name of the group, association, or organization should be indicated in your registration request. Due to the meeting location's maximum capacity, VA may limit the size of a group's registration to allow receipt of comments, testimonies, and/or technical remarks from a broad, diverse group of stakeholders. Oral comments, testimonies, and/or technical remarks may be limited from a group, association, or organization with more than two (2) individuals representing the same group, association, or organization. Efforts will be made to accommodate all attendees who wish to attend in-person. However, VA will give priority for in-person attendance to pertinent Federal, private sector, and non-governmental entities who request registration before September 12, 2018, 4:00 p.m. ET, and wish to provide oral comments, testimonies, and/or technical remarks. Please provide the number and names of people your organization would like to send in-person, and VA will accommodate as space allows; organizations should list names in the order of importance of their attendance to ensure that VA allows admission for the right representatives. The length of time allotted for attendees to provide oral comments, testimonies, and/or technical remarks during the meeting may be subject to the number of in-person attendees, and to ensure ample time is allotted to those registered attendees. There will be no opportunity for audio-visual presentations during the meeting. Written comments will be accepted from those attending in-person (see above instructions for submitting written comments).

Audio (for listening purposes only): Limited to the first 200 participants, on a first-come, first-served basis. Advanced registration is not required. Audio attendees will not be allowed to offer oral comments, testimonies, and/or technical remarks as the phone line will be muted. Written comments will be accepted from those participating via audio (see above instructions for submitting written comments).

Note: VA will conduct the public meeting informally, and technical rules of evidence will not apply. VA will arrange for a written transcript of the meeting and keep the official record open for 15 days after the meeting to allow submission of supplemental information. You may make arrangements for copies of the transcript directly with the reporter, and the transcript will also be posted in the docket of the rule as part of the official record when the rule is published. Should it be necessary to cancel the meeting due to inclement weather or other emergencies, VA will take available measures to notify registered participants.

Agenda

09:00-10:00 Arrival/Check-In

10:00-12:00 Morning Public Meeting Session

12:00-13:00 Lunch Break (Note: Meals will not be provided by VA.)

13:00-16:00 Afternoon Public Meeting Session

16:00 Adjourn

Public Meeting Topics

Pursuant to section 1703C(a)(3)-(4) of title 38, U.S.C., as added by section 104(a) of Public Law 115-182, (the VA MISSION Act), VA requests information that will assist in developing the standards for quality required by the VA MISSION Act. This includes datasets that include, at a minimum, elements relating to timely care, effective care, safety (including, at a minimum, complications, readmissions, and deaths), and efficiency.

Specifically, VA requests information related to the below:

1. What standards for quality do public or private providers or health systems currently use? How do public or private providers or health systems measure performance against these standards for quality (i.e., what data sets and measures are employed)? How are those standards and measures used to make decisions regarding patient referrals to specific public or private providers?

2. How does the health system communicate standards for quality to their stakeholders?

3. How are data on quality standards obtained or collected from public or private providers and health systems?

4. Does the public or private provider or health system publicly report performance on those quality standards, including comparisons of quality measures, and in what manner?

5. How does the public or private provider or health system respond to findings when quality standards are not being met?

Signing Authority

The Secretary of Veterans Affairs, or designee, approved this document and authorized the undersigned to sign and submit the document to the Office of the Federal Register for publication electronically as an official document of the Department of Veterans Affairs. Robert L. Wilkie, Secretary, Department of Veterans Affairs, approved this document on August 21, 2018, for publication.

Dated: August 21, 2018.
Michael Shores,
Director, Regulation Policy & Management, Office of the Secretary, Department of Veterans Affairs.

[FR Doc. 2018-18439 Filed 8-23-18; 8:45 am]

BILLING CODE 8320-01-P